DEPARTMENT OF TRANSPORTATION

BUREAU OF TRANSPORTATION STATISTICS

Agency Information Collection; Activity Under OMB Review; Report of Passengers Denied Confirmed Space—BTS Form 251

AGENCY: Bureau of Transportation Statistics (BTS), DOT.

ACTION: Notice.

SUMMARY: In compliance with the Paperwork Reduction Act of 1995, Public Law 104-13, the Bureau of Transportation Statistics invites the general public, industry and other governmental parties to comment on the continuing need for and usefulness of DOT requiring U.S. and foreign air carriers that operate scheduled passenger service with large aircraft to submit reports on their oversales practices. Large aircraft are aircraft designed to carry over 60-seats. Carriers submit the quarterly Form 251 “Report of Passengers Denied Confirmed Space.” Carriers do not report oversales of inbound international flights because the protection provisions of 14 CFR part 250 do not apply to these flights. The Department uses Form 251 to monitor the compliance by U.S. and foreign air carriers to the oversales provisions of Part 250.

DATES: Written comments should be submitted by November 21, 2003.

ADDRESSES: Comments should be directed to: Office of Airline Information, K-25, Room 4125, Bureau of Transportation Statistics, 400 Seventh Street, SW., Washington, DC 20590-0001, FAX NO. 366-3383 or EMAIL bernard.stankus@bts.gov.

Comments: Comments should identify the OMB # 2138-0018. Persons wishing the Department to acknowledge receipt of their comments must submit with those comments a self-addressed stamped postcard on which the following statement is made: Comments on OMB # 2138-0018. The postcard will be date/time stamped and returned.

FOR FURTHER INFORMATION CONTACT: Bernie Stankus Office of Airline Information, K-25, Room 4125, Bureau of Transportation Statistics, 400 Seventh Street, SW., Washington, DC 20590-0001, (202) 366-4387.

SUPPLEMENTARY INFORMATION:

OMB Approval No.: 2138-0018.

Title: Report of Passengers Denied Confirmed Space.

Form No.: BTS Form 251.

Type Of Review: Extension of a currently approved collection.

Respondents: Large U.S. and foreign air carriers.

Number of Respondents: 110.

Number of Responses: 440.

Total Annual Burden: 2,220 hours.

Needs and Uses: BTS Form 251 is a one page report on the number of passengers holding confirmed space that were voluntarily or involuntarily denied boarding. Carriers must report whether the bumped passengers were provided alternate transportation and/or compensation, and the amount of the payment. The report allows the Department to monitor the effectiveness of its oversales rule and take enforcement action when necessary. The involuntary denied-boarding rate has steadily decreased over the years from 4.38 per 10,000 enplanements in 1980 to .99 for the first six months of the year 2003. This decrease occurred at a time when air carrier load factors have increased. These statistics demonstrate the effectiveness of the “volunteer” provision, which has reduced the need for more intrusive regulation.

The rate of denied boarding can be examined as an air carrier continuing fitness factor. This rate provides an insight into a carrier's policy on treating overbooked passengers and its compliance disposition. A rapid increase in the rate of denied boardings often is an indicator of operational difficulty.

Because the rate of denied boarding is published in the Air Travel Consumer Report, travelers and travel agents can select carriers with low bumping incidents when booking a trip.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Donald W. Bright,
Director, Office of Airline Information, Bureau of Transportation Statistics.

[FR Doc. 03-24096 Filed 9-18-03; 12:01 pm]

BILLING CODE 4910-FE-P